DEPARTMENT OF ENERGY

Federal Energy Regulatory Commission

[Docket No. EG02-3-000, et al.]

Llano Estacado Wind, LP, et al; Electric Rate and Corporate Regulation Filings

October 16, 2001.

Take notice that the following filings have been made with the Commission:

1. Llano Estacado Wind, LP

[Docket No. EG02-3-000]

Take notice that on October 10, 2001, Llano Estacado Wind, LP, 823 Congress Avenue, Suite 515, Austin, Texas 78701, (Llano Estacado Wind) filed with the Federal Energy Regulatory Commission (Commission) an Application for Determination of Exempt Wholesale Generator Status pursuant to Part 365 of the Commission's Regulations.

Llano Estacado Wind is a Texas limited partnership that plans to construct, own and operate the Llano Estacado Wind RanchTM at White Deer, a small power production facility located approximately three miles northwest of White Deer, Texas in Carson County (the Facility), and will engage exclusively in the generation of electric energy for sale at wholesale. The Facility will consist of a wind-powered generation facility with a power production capacity of approximately 78.8 megawatts and associated control, substation and interconnection facilities. No rate or charge for, or in connection with, the construction of the Facility, or for electric energy produced thereby (other than any portion of a rate or charge that represents recovery of the cost of a wholesale rate or charge), was in effect under the laws of any State of the United States on October 24, 1992.

Copies of this Application have been served upon the Public Utilities Commission of Texas and the Securities and Exchange Commission.

Comment date: November 6, 2001, in accordance with Standard Paragraph E at the end of this notice. The Commission will limit its consideration of comments to those that concern the adequacy or accuracy of the application.

2. GNE, LLC

[Docket No. EG02-4-000]

Take notice that on October 5, 2001, GNE, LLC, located at 1 Katahdin Avenue, Millinocket, Maine, 04462-1398, filed with the Federal Energy Regulatory Commission (Commission), an application for determination of exempt wholesale generator status pursuant to Part 365 of the Commission's regulations.

GNE, LLC is a Delaware limited liability company that will own and operate four hydroelectric plants located at or near Millinocket, Maine, with a total nameplate capacity of approximately 130 megawatts and certain undivided joint ownership interests in several transmission interconnection components that will be part of the eligible facility. GNE, LLC will be engaged directly and exclusively in the business of owning and operating all or part of one or more eligible facilities and selling electric energy at wholesale.

Comment date: November 6, 2001, in accordance with Standard Paragraph E at the end of this notice. The Commission will limit its consideration of comments to those that concern the adequacy or accuracy of the application.

3. Energy Services Nevada, Inc.

[Docket No. EG02-6-000]

Take notice that on October 9, 2001, Energy Services Nevada, Inc. (Applicant), filed with the Federal Energy Regulatory Commission (Commission), an application for a determination of Exempt Wholesale Generator status pursuant to Part 365 of the Commission's regulations.

Applicant will own or operate, or both own and operate, an electric cogeneration facility with a capacity of approximately 2.7 MW (along with appurtenant interconnected transmission facilities) located in Fernley, Nevada. All electric output from the facility will be sold exclusively by Applicant at wholesale.

Comment date: November 6, 2001, in accordance with Standard Paragraph E at the end of this notice. The Commission will limit its consideration of comments to those that concern the adequacy or accuracy of the application.

4. ISO New England Inc.

[Docket Nos. EL00-62-036]

Take notice that on October 3, 2001 the New England Power Pool (NEPOOL) Participants Committee submitted to the Federal Energy Regulatory Commission (Commission), the Seventy-Eighth Agreement Amending New England Power Pool Agreement and the Seventy-Ninth Agreement Amending New England Power Pool Agreement in response to requirements of the Commission's August 27, 2001 order in Docket No.EL00-62-030, New England Power Pool, 96 FERC 61,228 (2001), and the Commission's August 28, 2001 order in Docket Nos. EL00-62-026 and EL00-62-029, ISO New England Inc., 96 FERC 61,234 (2001). NEPOOL has noted for each an effective date of September 1, 2001.

The NEPOOL Participants Committee states that copies of these materials were sent to all persons identified on the service list in the captioned proceeding, the NEPOOL Participants and the six New England state governors and regulatory commissions.

Comment date: November 14, 2001, in accordance with Standard Paragraph E at the end of this notice.

5. Arizona Public Service Company

[Docket Nos. EL02-5-000 and ER02-65-000]

Take notice that on October 9, 2001, Arizona Public Service Company (APS) tendered for filing a petition for a declaration of APS’ rights and obligations with respect to a Lease Power Agreement between APS and Electrical District No. Three of the County of Pinal and the State of Arizona (ED-3).

APS also submits notice of termination of a Lease Agreement governing the Facilities.

Comment date: November 8, 2001, in accordance with Standard Paragraph E at the end of this notice.

6. Florida Power & Light Co.

[Docket Nos. ER93-465-029, ER93-922-015, EL94-12-010, OA96-39-005, ER96-2381-003]

Take notice that on October 11, 2001, Florida Power & Light Company (FPL) filed with the Federal Energy Regulatory Commission (Commission) a refund compliance report in connection with the July 7, 2000 settlement agreement between FPL and Orlando Public Utilities, which the Commission approved by a letter order issued September 13, 2001, in the above-captioned dockets. Applicants state that copies of this filing have been served on the official service lists in the above-captioned dockets.

Comment date: November 1, 2001, in accordance with Standard Paragraph E at the end of this notice.

7. Energy Group of America, Inc.

[Docket No. ER01-2694-001]

Take notice that on October 11, 2001, the Energy Group of America, Inc. submitted for filing with the Federal Energy Regulatory Commission (Commission) a First Revised Rate Schedule No. 1 in compliance with the Commission's Letter Order dated September 18, 2001. The First Revised Rate Schedule No.1 has been modified to incorporate the designation information required by Order No. 614.

The Energy Group of America, Inc. states that a copy of this filing has been served on each person designated on the official service list in Docket ER01-2964.

Comment date: November 1, 2001, in accordance with Standard Paragraph E at the end of this notice.

8. Pilot Power Group, Inc.

[Docket No. ER01-1699-003]

Take notice that on October 9, 2001, Pilot Power Group, Inc. (Pilot) tendered for filing with the Federal Energy Regulatory Commission (Commission) pursuant to the Commission's Order on April 30, 2001, submitting its index and a description of its seller/end users.

Comment date: October 30, 2001, in accordance with Standard Paragraph E at the end of this notice.

9. Midwest independent Transmission

[Docket No. ER01-3142-001]

Take notice that on October 11, 2001, the Midwest Independent Transmission System Operator, Inc. (the Midwest ISO) tendered for filing with the Federal Energy Regulatory Commission (Commission) a corrected copy of the clean version of Attachment Q to its Open Access Transmission Tariff (OATT), FERC Electric Tariff, Original Volume No. 1, which was previously accepted for filing in Docket No. ER98-1438-000, and which has been reformatted to conform to the requirements of Order No. 614.

The Midwest ISO seeks an effective date of November 27, 2001. The Midwest ISO also seeks waiver of the Commission's Regulations, 18 CFR 385.2010 (2000) with respect to service on all parties on the official service list in this proceeding.

Comment date: November 1, 2001, in accordance with Standard Paragraph E at the end of this notice.

10. Southwest Power Pool, Inc.

[Docket No. ER02-57-000]

Take notice that on October 9, 2001, Southwest Power Pool, Inc. (SPP) submitted for filing with the Federal Energy Regulatory Commission (Commission) a service agreement for Firm Point-to-Point Transmission Service with Southwestern Public Service Marketing (Transmission Customer). SPP requests an effective date of January 1, 2002 for this service agreement.

A copy of this filing was served on the Transmission Customer.

Comment date: October 30, 2001, in accordance with Standard Paragraph E at the end of this notice.

11. Ameren Services Company

[Docket No. ER02-58-000]

Take notice that on October 9, 2001, Ameren Services Company (ASC) tendered for filing with the Federal Energy Regulatory Commission (Commission) a Transmission System Interconnection Agreement between ASC and Clay County Trust 2000. ASC asserts that the purpose of the Agreement is to permit ASC to provide transmission service to Clay County Trust 2000 pursuant to Ameren's Open Access Transmission Tariff.

Comment date: October 30, 2001, in accordance with Standard Paragraph E at the end of this notice.

12. Xcel Energy Services Inc.

[Docket No.ER02-59-000]

Take notice that on October 9, 2001, Xcel Energy Services Inc. (XES), on behalf of Public Service Company of Colorado (PSCo), submitted for filing with the Federal Energy Regulatory Commission (Commission) a Short-Term Firm and a Non-Firm transmission service agreement between PSCo and Exelon Generation Company, LLC.

PSCo requests that the Commission accept the agreement effective September 6, 2001, and requests waiver of the Commission's notice requirements in order for the agreements to be accepted for filing on the date requested.

Comment date: October 30, 2001, in accordance with Standard Paragraph E at the end of this notice.

13. Pacific Gas and Electric Company

[Docket No. ER02-60-000]

Take notice that on October 9, 2001, Pacific Gas and Electric Company (PG&E) tendered for filing with the Federal Energy Regulatory Commission (Commission) an executed Generator Interconnection Agreement (GIA) to replace the unexecuted placeholder GIA that is part of the Generator Special Facilities Agreement (GSFA) between PG&E and Pacific Gas and Electric Company and La Paloma Generating Company, LLC, as agent for La Paloma Generating Trust, Ltd. (La Paloma) (collectively, Parties) providing for Special Facilities and the parallel operation of La Paloma's generating facility and the PG&E-owned electric system that is on file with the Commission as PG&E Rate Schedule FERC No. 220. PG&E also tendered for filing a Supplemental Letter Agreement between the Parties. A Notice of Termination will terminate PG&E Rate Schedule FERC No. 220, and the GSFA, the newly-executed GIA and Supplemental Letter Agreement will be re-designated as Service Agreement 18 under PG&E's Electric Tariff, 6th Revised Volume No. 5.

Copies of this filing have been served upon La Paloma, the California Independent System Operator Corporation, and the California Public Utilities Commission.

Comment date: October 30, 2001, in accordance with Standard Paragraph E at the end of this notice.

14. Kentucky Utilities Company

[Docket No. ER02-61-000]

Take notice that on October 9, 2001, Kentucky Utilities Company tendered for filing with the Federal Energy Regulatory Commission (Commission) an executed Amendment the interconnection between Kentucky Utilities Company and East Kentucky Power Cooperative, Inc. The agreements provides for the construction of facilities to add an additional interconnection point on Kentucky Utilities Company's Loudon to Winchester 69kV transmission line to serve the new load area referred to as the Treehaven load station. Additionally, Kentucky Utilities Company will transfer load from a substation named Columbia to a new substation referred to as Columbia South on the East Kentucky Power Cooperative's Summer Shade to Sewellton Junction 69 Kv line. The Amendment is numbered 18.

Comment date: October 30, 2001, in accordance with Standard Paragraph E at the end of this notice.

15. Kentucky Utilities Company

[Docket No. ER02-62-000]

Take notice that on October 9, 2001, Kentucky Utilities Company tendered for filing with the Federal Energy Regulatory Commission (Commission) an executed Amendment the interconnection between Kentucky Utilities Company and East Kentucky Power Cooperative, Inc. The agreement provides for the reactivation of a previously constructed load station on the East Kentucky Power Cooperative's 69 kV line from Kentucky Utilities Company's Lynch substation to East Kentucky Power Cooperative's Oven Fork substation. The reactivated load station is referred to as the Arkland load station. The Amendment is numbered 20.

Comment date: October 30, 2001, in accordance with Standard Paragraph E at the end of this notice.

16. Virginia Electric and Power Company

[Docket No. ER02-63-000]

Take notice that on October 9, 2001, Virginia Electric and Power Company, doing business as Dominion Virginia Power, tendered for filing with the Federal Energy Regulatory Commission (Commission) an unexecuted Generator interconnection and Operating Agreement (Interconnection Agreement) with Swells Fargo Bank Northwest, National Association (Wells Fargo). The Interconnection agreement sets forth the terms and conditions under which Dominion Virginia Power will provide interconnection service for Wells Fargo's yet to be built generating facility.

Dominion Virginia Power respectfully requests that the Commission set an effective date of December 10, 2001 for the Interconnection Agreement.

Copies of the filing were served upon Wells Fargo bank Northwest, National Association and the Virginia State Corporation Commission.

Comment date: October 30, 2001, in accordance with Standard Paragraph E at the end of this notice.

17. Mirant Delta, LLC and Mirant Potrero, LLC

[Docket No. ER02-64-000]

Take notice that on October 9, 2001, Mirant Delta, LLC and Mirant Potrero, LLC provided to the Federal Energy Regulatory Commission (Commission) an informational filing in compliance with Schedule F of their respective Must-Run Service Agreements with the California Independent System Operator Corporation.

Comment date: October 30, 2001, in accordance with Standard Paragraph E at the end of this notice.

18. Progress Energy Inc. On behalf of Carolina Power & Light Company

[Docket No. ER02-66-000]

Take notice that on October 10, 2001, Carolina Power & Light Company (CP&L) tendered for filing with the Federal Energy Regulatory Commission (Commission) an executed Service Agreement between CP&L and the following eligible buyer, The Detroit Edison Company. Service to this eligible buyer will be in accordance with the terms and conditions of CP&L's Market-Based Rates Tariff, FERC Electric Tariff No. 5. Copies of the filing were served upon the North Carolina Utilities Commission and the South Carolina Public Service Commission.

CP&L requests an effective date of September 15, 2001 for this Service Agreement.

Comment date: October 31, 2001, in accordance with Standard Paragraph E at the end of this notice.

19. New England Power Pool

[Docket No. ER02-67-000]

Take notice that on October 10, 2001, the New England Power Pool (NEPOOL) Participants Committee submitted a filing with the Federal Energy Regulatory Commission (Commission) requesting acceptance of proposed changes to Market Rule & Procedure 5 that amend the allocation among Participants of certain costs and payments associated with Inadvertent Energy. NEPOOL requests the Commission to allow these proposed changes to become effective on October 1, 2001.

The NEPOOL Participants Committee states that copies of these materials were sent to the New England state governors and regulatory commissions and the Participants in the New England Power Pool.

Comment date: October 31, 2001, in accordance with Standard Paragraph E at the end of this notice.

20. NRG McClain LLC

[Docket No. ER02-68-000]

Take notice that on October 10, 2001, NRG McClain LLC (NRG McClain) submitted with the Federal Energy Regulatory Commission (Commission) a Notice of Succession pursuant to Section 35.16 of the Commission's regulations, 18 CFR 35.16. As a result of the name change, NRG McClain is succeeding to the FERC Electric Tariff of Duke Energy McClain, LLC, effective August 31, 2001. The tariff sheets filed by Duke Energy McClain in Docket No. ER01-566-000 are canceled.

Comment date: October 31, 2001, in accordance with Standard Paragraph E at the end of this notice.

21. Commonwealth Edison Company

[Docket No. ER02-69-000]

Take notice that on October 10, 2001, Commonwealth Edison Company (ComEd) submitted for filing with the Federal Energy Regulatory Commission (Commission) one amended Form of Service Agreement for Firm Point-To-Point Transmission Service (Amended Service Agreement) between ComEd and Edison Mission Marketing & Trading Inc. (Edison) and one Form of Service Agreement for Firm Point-To-Point Transmission Service (Service Agreement) between ComEd and Reliant Energy Services, Inc. (Reliant) under the terms of ComEd's Open Access Transmission Tariff (OATT).

ComEd asks that the Amended Service Agreement with Edison supersede and be substituted for the Service Agreement with Edison previously filed on April 17, 2001 in Docket No. ER01-1813-000. The Amended Service Agreement has been amended to change Edison's roll-over rights from pending to granted. Copies of this filing were served on Edison and Reliant.

ComEd requests an effective date of October 1, 2001 for the Amended Service Agreement with Edison and an effective date of November 1, 2001 for the Service Agreement with Reliant, and therefore seeks waiver of the Commission's notice requirements.

Comment date: October 31, 2001, in accordance with Standard Paragraph E at the end of this notice.

22. Commonwealth Edison Company

[Docket No. ER02-70-000]

Take notice that on October 10, 2001 Commonwealth Edison Company (ComEd) submitted for filing with the Federal Energy Regulatory Commission (Commission) six re-executed Form of Service Agreements for Firm Point-To-Point Transmission Service (Service Agreements) between ComEd and Exelon Generation Company LLC (Exelon) under the terms of ComEd's Open Access Transmission Tariff (OATT). At the time Service Agreement No. 503 and Service Agreement No. 504 were entered into, the name of Exelon was Commonwealth Edison Company in it Wholesale Merchant Function. Similarly, at the time Service Agreement No. 495, Service Agreement No. 496, Service Agreement No. 497, and Service Agreement No. 498 were entered into, the name of Exelon was PECO Energy Company. Service Agreement No. 503, Service Agreement No. 504, Service Agreement No. 495, Service Agreement No. 496, Service Agreement No. 497, and Service Agreement No. 498 are being revised, at the request of Exelon, to reflect the new name of the company. A copy of this filing was served on Exelon.

ComEd requests that the re-executed Service Agreements with Exelon be granted the same effective dates as were previously granted them. Accordingly, ComEd requests an effective date of January 1, 2001 for Service Agreement Nos. 503, 495, 496, 497, and 498, and an effective date of January 8, 2001 for Service Agreement No. 504.

Comment date: October 31, 2001, in accordance with Standard Paragraph E at the end of this notice.

23. Cinergy Services, Inc.

[Docket No. ER02-71-000]

Take notice that on October 11, 2001, Cinergy Services, Inc. (Provider) tendered for filing with the Federal Energy Regulatory Commission (Commission) a Firm Point-To-Point Service Agreement under Cinergy's Open Access Transmission Service Tariff (OATT) entered into between Provider and Exelon Generation Company, LLC (Customer).

Provider and Customer are requesting an effective date of September 11, 2001.

Comment date: November 1, 2001, in accordance with Standard Paragraph E at the end of this notice.

24. Cinergy Services, Inc.

[Docket No. ER02-72-000]

Take notice that on October 11, 2001, Cinergy Services, Inc. (Provider) tendered for filing with the Federal Energy Regulatory Commission (Commission) a Non-Firm Point-To-Point Service Agreement under Cinergy's Open Access Transmission Service Tariff (OATT) entered into between Cinergy and Exelon Generation Company, LLC (Customer).

Provider and Customer are requesting an effective date of September 11, 2001.

Comment date: November 1, 2001, in accordance with Standard Paragraph E at the end of this notice.

25. Llano Estacado Wind, LP

[Docket No. ER02-73-000]

Take notice that on October 11, 2001, Llano Estacado Wind, LP (Llano Estacado Wind) submitted for filing with the Federal Energy Regulatory Commission (Commission), pursuant to Section 205 of the Federal Power Act, and Part 35 of the Commission's regulations, an Application of Llano Estacado Wind, LP for Blanket Authorizations, Certain Waivers, and Order Accepting Tariff. Llano Estacado Wind will own and operate a 79.8 megawatt wind-powered generating facility near White Deer in Carson County, Texas.

Comment date: November 1, 2001, in accordance with Standard Paragraph E at the end of this notice.

26. Xcel Energy Services Inc.

[Docket No. ER02-74-000]

Take notice that on October 11, 2001, Xcel Energy Services Inc. (XES), on behalf of Public Service Company of Colorado (Public Service), submitted for filing with the Federal Energy Regulatory Commission (Commission) a Service Agreement between Public Service and Midwest Energy, Inc., which is an umbrella service agreement under Public Service's Rate Schedule for Market-Based Power Sales (FERC Electric Tariff, First Revised Volume No. 6). XES requests that this agreement become effective on September 30, 2001.

Comment date: November 1, 2001, in accordance with Standard Paragraph E at the end of this notice.

27. Public Service Company of New Mexico

[Docket No. ER02-75-000]

Take notice that on October 11, 2001, Public Service Company of New Mexico (PNM) submitted for filing with the Federal Energy Regulatory Commission (Commission) two executed service agreements with Pinnacle West Marketing & Trading, under the terms of PNM's Open Access Transmission Tariff. One agreement is for non-firm point-to-point transmission service and one agreement is for short-term firm point-to-point transmission service. PNM requests October 4, 2001, as the effective date for the agreements. PNM's filing is available for public inspection at its offices in Albuquerque, New Mexico.

Copies of the filing have been sent to Pinnacle West Marketing & Trading, and to the New Mexico Public Regulation Commission.

Comment date: November 1, 2001, in accordance with Standard Paragraph E at the end of this notice.

28. PacifiCorp

[Docket No.ER02-76-000]

Take notice that PacifiCorp on October 11, 2001, tendered for filing in accordance with 18 CFR 35 of the Federal Energy Regulatory Commission (Commission) Rules and Regulations, three Long-Term Firm Transmission Service Agreements with PacifiCorp Power Marketing (PPM) under PacifiCorp's FERC Electric Tariff, Third Revised Volume No. 11 (Tariff).

Copies of this filing were supplied to the Washington Utilities and Transportation Commission and the Public Utility Commission of Oregon.

Comment date: November 1, 2001, in accordance with Standard Paragraph E at the end of this notice.

29. New Mexico Electric Marketing, LLC

[Docket No. ER02-77-000]

Take notice that on October 11, 2001, New Mexico Electric Marketing, LLC, 1044 North 115 Street, Suite 400, Omaha, Nebraska 68154 (NewMex) submitted for filing with the Federal Energy Regulatory Commission (Commission) an application for blanket authorization and certain waivers under regulations of the Commission, and for an order accepting its FERC Electric Rate Schedule No. 1, enabling NewMex to engage in electric power and energy transactions as a marketer and a broker.

In transactions where NewMex purchases power, including capacity and related services from electric utilities, qualifying facilities, and independent power producers, and resells such power to other purchasers, NewMex will be functioning as a marketer. In NewMex's marketing transactions, NewMex proposes to charge rates mutually agreed upon by the parties. In transactions where NewMex does not take title to electric power and/or energy, NewMex will be limited to the role of a broker and will charge a fee for its services. NewMex is not in the business of producing electric power nor does it contemplate acquiring title to any electric power transmission facilities.

Comment date: November 1, 2001, in accordance with Standard Paragraph E at the end of this notice.

30. Midwest Independent Transmission System Operator, Inc. American Transmission Company LLC

[Docket No. ER02-78-000]

Take notice that on October 11, 2001, the Midwest Independent Transmission System Operator, Inc. (Midwest ISO) and American Transmission Company LLC (ATCLLC) tendered for filing with the Federal Energy Regulatory Commission (Commission) Midwest ISO rate schedules that reflect the current ATCLLC open access transmission rates for service within the ATCLLC rate zone under the Midwest ISO tariff. The Midwest ISO and ATCLLC request an effective date commensurate with the operation date of the Midwest ISO, currently expected to be December 15, 2001.

The Midwest ISO seeks waiver of the Commission's regulations, 18 CFR 385.2010 (2000) with respect to service on all required parties. The Midwest ISO has posted its reformatted OATT on its Internet site at www.midwestiso.org, and the Midwest ISO will provide hard copies to any interested parties upon request.

Comment date: November 1, 2001, in accordance with Standard Paragraph E at the end of this notice.

Standard Paragraph

E. Any person desiring to be heard or to protest such filing should file a motion to intervene or protest with the Federal Energy Regulatory Commission, 888 First Street, N.E., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-26667 Filed 10-22-01; 8:45 am]

BILLING CODE 6717-01-P